DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2000, there were nine applications approved. This notice also includes information on one application, approved in June 2000, inadvertently left off the June 2000 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph (d) of § 158.29.

PFC Applications Approved

Public Agency: Metropolitan Nashville Airport Authority, Nashville, Tennessee.

Application Number: 00-07-C-00-BNA.

Application Type: Impose and use a PFC.

PFC Level: $3.00.

Total PFC Revenue Approved in This Decision: $2,094,000.

Earliest Charge Effective Date: January 1, 2002.

Estimated Charge Expiration Date: April 1, 2002.

Class of Air Carriers Not Required to Collect PFC's: Part 135 air taxis.

Determination: Approved. Based on information contained in the public agency's application, the FAA has determined that the approved class accounts for less than 1 percent of the total annual enplanements at Nashville International Airport.

Brief Description of Project Approved for Collection and Use: Air cargo ramp.

Decision Date: June 30, 2000.

FOR FURTHER INFORMATION CONTACT: Cynthia K. Wills, Memphis Airports District Office, (901) 544-3495, ext. 16.

Public Agency: City of Greenville, Mississippi.

Application Number: 00-02-C-00-GLH

Application Type: Impose and use a PFC.

PFC Level: $3.00.

Total PFC Revenue Approved in This Decision: $82,292.

Earliest Charge Effective Date: August 1, 2000.

Estimated Charge Expiration Date: February 1, 2003.

Class of Air Carriers Not Required to Collect PFC's: Air taxi/commercial operators filing FAA Form 1800-31.

Determination: Approved. Based on information contained in the public agency's application, the FAA has determined that the approved class accounts for less than 1 percent of the total annual enplanements at Mid Delta Regional Airport

Brief Description of Projects Approved for Collection and Use:

Acquire airfield sweeepr.

Conduct airport master plan study, phase 1.

Design refurbishment of the airport access road.

Purchase 4-Kilowatt constant voltage regulator.

Conduct airport master plan, phase 2.

Rehabilitation of airport access road.

Rehabilitation of taxiway B.

Rehabilitation of security fencing.

Brief Description of Project Approved for Collection and Use: Develop a new Disadvantaged Business Enterprise program.

Determination: Disapproved. This project is not required as an administrative cost of the PFC program. Rather, it is an administrative cost of the Airport Improvement Program. Therefore, this project does not meet the eligibility requirements under the definition of allowable cost in § 158.3 or under § 158.15(b).

Decision Date: July 5, 2000.

For Further Information Contact: Patrick Vaught, Jackson Airports District Office, (601) 664-9885.

Public Agency: City of Chicago, Department of Aviation, Chicago, Illinois.

Application Number: 00-08-C-00-MDW.

Application Type: Impose and use a PFC.

PFC Level: $3.00.

Total PFC Revenue Approved in This Decision: $20,000,000.

Earliest Charge Effective Date: January 1, 2044.

Estimated Charge Expiration Date: November 1, 2044.

Class of Air Carriers Not Required to Collect PFC's: Air taxi operators.

Determination: Approved. Based on information contained in the public agency's application, the FAA has determined that the proposed class accounts for less than 1 percent of the total annual enplanements at Chicago Midway Airport.

Brief Description of Project Approved for Collection and Use: Residential insulation.

Decision Date: July 7, 2000.

For Further Information Contact: Philip M. Smithmeyer, Chicago Airports District Office, (847) 294-7335.

Public Agency: Hillsborough County Aviation Authority, Tampa, Florida.

Application Number: 00-04-C-00-TPA.

Application Type: Impose and use a PFC.

PFC Level: $3.00.

Total PFC Revenue Approved in This Decision: $124,728,400.

Earliest Charge Effective Date: July 1, 2002.

Estimated Charge Expiration Date: October 1, 2007.

Class of Air Carriers Not Required to Collect PFC's: On-demand air taxi/commercial operators that (1) do not enplane or deplane passengers at Tampa International Airport's main passenger terminal buildings, or (2) enplane less than 500 passengers per year at Tampa International Airport.

Determination: Approved. Based on information contained in the public agency's application, the FAA has determined that the proposed class accounts for less than 1 percent of the total annual enplanements at Tampa International Airport.

Brief Description of Projects Approved for Collection and Use:

Airside E development program.

Departure level expansion and modernization.

Purchase passenger loading bridges.

Taxiway J extension.

Reconstruct a portion of taxiway A.

Decision Date: July 10, 2000.

For Further Information Contact: Susan A. Moore, Orlando Airports District Office, (407) 812-6331, ext. 20.

Public Agency: City of Burlington, Vermont.

Application Number: 00-03-C-00-BTV.

Application Type: Impose and use a PFC.

PFC Level: $3.00.

Total PFC Revenue Approved In This Decision: $1,788,581.

Earliest Charge Effective Date: February 1, 2011.

Estimated Charge Expiration Date: February 1, 2012.

Class of Air Carriers Not Required to Collect PFC's: On-demand air taxi/commercial operators that (1) do not enplane or deplane passengers at Burlington International Airport's main passenger terminal building, or (2) enplane less than 200 passengers per year at Burlington International Airport.

Determination: Approved. Based on information contained in the public agency's application, the FAA has determined that the proposed class accounts for less than 1 percent of the total annual enplanements at Burlington International Airport.

Brief Description of Projects Approved for Collection and Use:

North end expansion baggage claim area.

PFC application costs.

Brief Description of Project Approved for Use: Air carrier apron expansion north end.

Decision Date: July 10, 2000.

For Further Information Contact: Priscilla A. Scott, New England Region Airports Division, (781) 238-7614.

Public Agency: Missoula County Airport Authority, Missoula, Montana.

Application Number: 00-03-C-00-MSO.

Application Type: Impose and use a PFC.

PFC Level: $3.00.

Total PFC Revenue Approved In This Decision: $1,500,000.

Earliest Charge Effective Date: August 1, 2003.

Estimated Charge Expiration Date: June 1, 2006.

Classes of Air Carriers Not Required to Collect PFC's: (1) Air taxis; (2) charter carriers.

Determination: Approved. Based on information contained in the public agency's application, the FAA has determined that each of the proposed classes account for less than 1 percent of the total annual enplanements at Missoula International Airport.

Brief Description of Project Approved for Collection and Use: Land acquisition.

Decision Date: July 13, 2000.

For Further Information Contact: David P. Gabbert, Helena Airports District Office, (406) 449-5271.

Public Agency: Greater Orlando Aviation Authority, Orlando, Florida.

Application Number: 00-08-C-00-MCO.

Application Type: Impose and use a PFC.

PFC Level: $3.00.

Total PFC Revenue Approved In This Decision: $253,632,770.

Earliest Charge Effective Date: April 1, 2008.

Estimated Charge Expiration Date: February 1, 2014.

Class of Air Carriers Not Required to Collect PFC's: None.

Brief Description of Projects Approved for Collection and Use: South terminal complex, construction

Heintzelman Boulevard, southern end—construction.

Decision Date: July 19, 2000.

For Further Information Contact: Pablo G. Auffant, Orlando Aiports District Office, (407) 812-6331, ext. 30.

Public Agency: County of Kalamazoo, Kalamazoo, Michigan.

Application Number: 00-02-U-00-AZO.

Application Type: Use PFC revenue.

PFC Level: $3.00.

Total PFC Revenue To Be Used in This Decision: $659,649.

Charge Effective Date: April 1, 1997.

Charge Expiration Date: June 1, 2000.

Class of Air Carriers Not Required To Collect PFC's: No change from previous decision.

Brief Description of Projects Approved for Use:

Taxiway B rehabilitation and relocation.

Glycol capture system.

Taxiway D rehabilitation.

Perimeter road.

Taxiway A rehabilitation.

Taxiway E. rehabilitation.

Decision Date: July 21, 2000.

For Further Information Contact: Gary J. Migut, Detroit Airports District Office, (703) 487-7278.

Public Agency: Port of Port Angeles, Washington.

Application Number: 00-05-C-00-CLM.

Application Type: Impose and use a PFC.

PFC Level: $3.00.

Total PFC Revenue Approved in This Decision: $211,683.

Earliest Charge Effective Date: November 1, 2000.

Estimated Charge Expiration Date: October 1, 2003.

Class of Air Carriers Not Required to Collect PFC's: Part 135 air taxi/commercial operators who conduct operations in air commerce carrying persons for compensation or hire, including air taxi/commercial operators offering on-demand, non-scheduled public or private charters.

Determination: Approved. Based on information contained in the public agency's application, the FAA has determined that the proposed class accounts for less than 1 percent of the total annual emplanements at William R. Fairchild International Airport.

Brief Description of Projects Approved for Collection and Use: Construct runway safety area (runway 08) including remove and replace medium intensity approach lighting system with runway alignment indicator lights, install guidance signage, and mark displaced threshold.

Expand terminal building.

Security fencing.

Taxiway safety area grading.

Runway 8 safety area improvements: drainage design and engineering.

Passenger lift.

Upgrade baggage handling equipment.

Airport layout plan update.

Vehicle security gate.

Brief Description of Projects Withdrawn:

Runway safety areas improvements, runway 26.

General aviation taxilanes and fencing.

Determination: These projects were withdrawn by the public agency in its letter dated April 14, 2000. Therefore, the FAA did not rule on these projects in this decision.

Decision Date: July 26, 2000.

For Further Information Contact: Suzanne Lee-Pang, Seattle Airports District Office, (425) 227-2660.

Public Agency: Monterey Peninsula Airport District, Monterey, California.

Application Number: 00-05-C-00-MRY.

Application Type: Impose and use a PFC.

PFC Level: $3.00.

Total PFC Revenue Approved in This Decision: $82,398.

Earliest Charge Effective Date: October 1, 2000.

Estimated Charge Expiration Date: December 1, 2000.

Class of Air Carriers Not Required to Collect PFC's: Unscheduled Part 135 air taxi operators.

Determination:: Approved. Based on information contained in the public agency's application, the FAA has determined that the proposed class accounts for less than 1 percent of the total annual enplanements at Monterey Peninsula Airport.

Brief Description of Project Approved for Collection and Use:

Blast pad at holding area.

Terminal area security fence.

Terminal fire alarm and detection system.

Joint sealant at north side portland cement concrete apron and south side portland cement concrete ramp.

Southeast perimeter fence extension.

Slurry seal taxiways A and E, phases 1 and 2.

Environmental assessment for terminal road improvement program.

Pavement management program.

Electrical service to north ramp.

Brief Description of Project Withdrawn: Environmental review for runway 10L/28R extension.

Determination: This project was withdrawn by the public agency in its letter dated July 3, 2000. Therefore, the FAA did not rule on this project in this decision.

Decision Date: July 28, 2000.

FOR FURTHER INFORMATION CONTACT: Marlys Vandervelde, San Francisco Airports District Office, (650) 876-2806.

Amendments to PFC Approvals

Amendment No., City, State | Amendment approved date | Original approved net PFC revenue | Amended approved net PFC revenue | Original estimated charge exp. date | Amended estimated charge exp. date
98-02-C-01-BIS, Bismarck, ND | 06/27/00 | $1,461,653 | $1,345,153 | 12/01/02 | 05/01/02
99-06-C-01-BNA, Nashville, TN | 07/17/00 | 2,660,000 | 4,160,000 | 01/01/02 | 03/01/02
97-04-C-01-BTR, Baton Rouge, LA | 07/18/00 | 10,157,206 | 19,069,316 | 06/01/08 | 08/01/16
97-04-C-01-MQT, Marquette, MI | 07/18/00 | 672,968 | 741,542 | 11/01/02 | 01/01/03
99-05-C-01-MFR, Medford, OR | 07/18/00 | 1,583,000 | 1,672,962 | 02/01/06 | 08/01/04
93-01-C-03-PBI, West Palm Beach, FL | 07/19/00 | 22,689,840 | 16,014,840 | 07/01/00 | 07/01/96
97-03-U-01-PBI, West Palm Beach, FL | 07/19/00 | NA | NA | 07/01/00 | 07/01/96
99-01-C-01-ANC, Anchorage, AK | 07/20/00 | 15,000,000 | 15,000,000 | 04/01/03 | 01/01/04
99-01-C-01-FAI, Fairbanks, AK | 07/20/00 | 5,460,000 | 5,460,000 | 03/01/06 | 01/01/04

Issued in Washington, DC, on August 14, 2000.
Eric Gabler,
Manager, Passenger Facility Charge Branch.

[FR Doc. 00-21265 Filed 8-21-00; 8:45 am]

BILLING CODE 4910-13-M